DEPARTMENT OF THE INTERIOR

Bureau of Land Management

[LLOR957000-L63100000-HD0000: HAG11-0349]

Filing of Plats of Survey: Oregon/Washington

AGENCY: Bureau of Land Management, Interior.

ACTION: Notice.

SUMMARY: The plats of survey of the following described lands are scheduled to be officially filed in the Bureau of Land Management Oregon/Washington State Office, Portland, Oregon, 30 days from the date of this publication.

Willamette Meridian

Oregon

T. 25 S., R. 8 W., accepted September 6, 2011

T. 30 S., R. 8 W., accepted September 6, 2011

T. 30 S., R. 7 W., accepted September 6, 2011

T. 17 S., R. 1 W., accepted September 7, 2011

T. 15 S., R. 2 W., accepted September 7, 2011

T. 13 S., R. 42 E., accepted September 7, 2011

T. 33 S., R. 3 W., accepted September 7, 2011

T. 27 S., R. 3 W., accepted September 7, 2011

T. 18 S., R. 1 W., accepted September 7, 2011

ADDRESSES: A copy of the plats may be obtained from the Land Office at the Bureau of Land Management, Oregon/Washington State Office, 333 S.W. 1st Avenue, Portland, Oregon 97204, upon required payment. A person or party who wishes to protest against a survey must file a notice that they wish to protest (at the above address) with the Oregon/Washington State Director, Bureau of Land Management, Portland, Oregon.

FOR FURTHER INFORMATION CONTACT: Kyle Hensley, (503) 808-6124, Branch of Geographic Sciences, Bureau of Land Management, 333 S.W. 1st Avenue, Portland, Oregon 97204. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Before including your address, phone number, e-mail address, or other personal identifying information in your comment, you should be aware that your entire comment—including your personal identifying information—may be made publicly available at any time. While you can ask us in your comment to withhold your personal identifying information from public review, we cannot guarantee that we will be able to do so.

Fred O'Ferrall,
Chief, Branch of Land, Mineral, and Energy Resources.

[FR Doc. 2011-25363 Filed 9-30-11; 8:45 am]

BILLING CODE 4310-33-P